DEPARTMENT OF TRANSPORTATION

Surface Transportation Board

[Docket No. FD 35965 (Sub-No. 1)]

Indiana Southern Railroad, LLC—Temporary Trackage Rights Exemption—Norfolk Southern Railway Company

AGENCY: Surface Transportation Board, DOT.

ACTION: Partial revocation of exemption.

SUMMARY: Under 49 U.S.C. 10502, the Board revokes the class exemption as it pertains to the trackage rights described in Docket No. FD 35965 ¹ to permit the trackage rights to expire on January 1, 2020, as provided in the underlying temporary trackage rights agreement subject to the employee protective conditions set forth in Oregon Short Line Railroad—Abandonment Portion Goshen Branch Between Firth & Ammon, in Bingham & Bonneville Counties, Idaho, 360 I.C.C. 91 (1979).

¹ In that docket, on October 5, 2015, Indiana Southern Railroad, LLC (ISRR) filed a Verified Notice of Exemption under the Board's class exemption procedures at 49 CFR 1180.2(d)(7). The notice addressed an agreement between (ISRR) and Norfolk Southern Railway Company (NS) that is intended to grant ISRR limited overhead temporary trackage rights until January 1, 2020, to operate over and provide rail service to one customer on a portion of NS's rail line between milepost 0.8 EJ at Oakland City Junction, Ind., and milepost 4.8 EJ at Enosville, Ind. ISRR stated that because the temporary trackage rights are longer than a year in duration, its verified notice was not filed under the Board's class exemption for temporary trackage rights under 49 CFR 1180.2(d)(8). Instead, ISRR concurrently filed a Petition for Partial Revocation in this sub-docket. Notice of the exemption was served and published in the Federal Register on October 21, 2015 (80 FR 63,871). That notice indicated that the Board would address the Petition for Partial Revocation in a subsequent decision, which it is doing here and in the Board's decision served today in this sub-docket.

DATES: The decision is effective on December 25, 2015. Petitions to stay must be filed by December 7, 2015. Petitions for reconsideration must be filed by December 15, 2015.

ADDRESSES: Send an original and 10 copies of all pleadings, referring to Docket No. FD 35965 (Sub-No. 1) to: Surface Transportation Board, 395 E Street SW., Washington, DC 20423-0001. In addition, a copy of each pleading must be served on Eric M. Hocky, Clark Hill, PLC, One Commerce Square, 2005 Market St., Suite 1000, Philadelphia, PA 19103.

FOR FURTHER INFORMATION CONTACT: Nathaniel Bawcombe (202) 245-0376. Assistance for the hearing impaired is available through the Federal Information Relay Service (FIRS) at (800) 877-8339.

SUPPLEMENTARY INFORMATION: Additional information is contained in the Board's decision. Board decisions and notices are available on our Web site at WWW.STB.DOT.GOV.

Decided: November 20, 2015.
By the Board, Chairman Elliott, Vice Chairman Begeman, and Commissioner Miller.
Kenyatta Clay,
Clearance Clerk.

[FR Doc. 2015-30037 Filed 11-24-15; 8:45 am]

BILLING CODE 4915-01-P